ADVISORY COUNCIL ON HISTORIC PRESERVATION

ACHP Quarterly Business Meeting

AGENCY: Advisory Council on Historic Preservation.

ACTION: Notice.

SUMMARY: Notice is hereby given that the Advisory Council on Historic Preservation (ACHP) will meet Thursday, February 9, 2012. The meeting will be held at 8:30 a.m. in Room MO9 in the Old Post Office Building, 1100 Pennsylvania Ave. NW., Washington, DC 20004.

The ACHP was established by the National Historic Preservation Act of 1966 (16 U.S.C. 470 et seq.) to advise the President and Congress on national historic preservation policy and to comment upon federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-federal members appointed by the President.

Call to Order—8:30 a.m.

I. Chairman's Welcome

II. Presentation of Chairman's Award

III. Chairman's Report

IV. ACHP Management Issues

A. Credentials Committee Report and Recommendations

B. Alumni Foundation Report

C. ACHP FY 2013 Budget

D. Meeting Venues for 2012

V. Forum Discussion-Federal Budget Austerity and Historic Preservation

VI. Historic Preservation Policy and Programs

A. National Park Service “Call to Action” Implementation

B. Legislative Agenda

C. Rightsizing Task Force Report

D. Sustainability Task Force Report

E. National Trust for Historic Preservation's Life Cycle Assessment Study

VII. Section 106 Issues

A. Section 3 Report Submission and Follow up

B. Traditional Cultural Landscapes Forum Action Plan Implementation

C. Bureau of Land Management Nationwide Programmatic Agreement

VIII. New Business

IX. Adjourn

Note: The meetings of the ACHP are open to the public. If you need special accommodations due to a disability, please contact the Advisory Council on Historic Preservation, 1100 Pennsylvania Avenue NW, Room 803, Washington, DC, (202) 606-8503, at least seven (7) days prior to the meeting. For further information: Additional information concerning the meeting is available from the Executive Director, Advisory Council on Historic Preservation, 1100 Pennsylvania Avenue NW, #803, Washington, DC 20004.

Dated: January 19, 2012.
John M. Fowler,
Executive Director.

[FR Doc. 2012-1450 Filed 1-24-12; 8:45 am]

BILLING CODE 4310-K6-P